ENVIRONMENTAL PROTECTION AGENCY

40 CFR Part 300

[EPA-HQ-SFUND-1983-0002; FRL-9996-41-Region 6]

National Oil and Hazardous Substances Pollution Contingency Plan; National Priorities List

AGENCY: Environmental Protection Agency (EPA).

ACTION: Proposed rule; reopening of the comment period.

SUMMARY: The Environmental Protection Agency (EPA) is reopening the comment period for a proposed rule published on July 31, 2018. In the July 31, 2018 notice of proposed rulemaking, EPA proposed to delete portions of the South Valley Superfund Site from the National Priorities List. EPA is reopening the comment period subsequent to a meeting requested by commenters to discuss the partial deletion activities. All comments submitted from the July 31, 2018, initiation of the original comment period will be accepted.

DATES: The comment period for the proposed rule published on July 31, 2018 (83 FR 36838) is reopened. Comments must be received by August 14, 2019. All comments received will be entered into the public record and considered by EPA before taking final action on the proposed rule.

ADDRESSES: Submit your comments, identified by Docket ID no. EPA-HQ-SFUND-1983-0002, by one of the following methods:

• http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

• Email: hebert.michael@epa.gov.

• Mail: Michael A. Hebert, Remedial Project Manager, EPA Region 6, Mail Code—6SEDRL, 1201 Elm Street, Suite 500, Dallas, Texas 75270-2102.

• Hand delivery:

○ Michael A. Hebert, Remedial Project Manager, EPA Region 6, Mail Code—6SEDRL, 5th Floor Reception Area, 1201 Elm Street, Suite 500, Dallas, Texas 75270-2102.

○ Such deliveries are only accepted during the Docket's normal hours of operation (Monday through Friday, 7 a.m. to 4 p.m.) except for Federal holidays and special arrangements should be made for deliveries of boxed information.

Instructions: Direct your comments to Docket ID no. EPA-HQ-SFUND-1983-0002. The http://www.regulations.gov website is an “anonymous access” system, which means EPA will not know your identity or contact information unless you provide it in the body of your comment. If you send an email comment directly to EPA without going through http://www.regulations.gov, your email address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in the hard copy. Publicly available docket materials are available either electronically in http://www.regulations.gov or in hard copy at: Zimmerman Library, Government Information Department University of New Mexico, Albuquerque NM 87131, 505.277.9100:

Monday-Thursday—7 a.m.-2 a.m.

Friday—7 a.m.-9 p.m.

Saturday—10 a.m.-6 p.m.

Sunday—12 p.m.-2 a.m.

New Mexico Environment Department, Harold Runnels Building, 1190 St. Francis Drive, Santa Fe, NM 87505, 505.827.2855: Monday-Friday 8 a.m.-5 p.m.

In addition, documents concerning the site can be found at https://www.epa.gov/superfund/south-valley.

FOR FURTHER INFORMATION CONTACT: Michael A. Hebert, Remedial Project Manager, U.S. Environmental Protection Agency, Region 6, Mail Code—6SEDRL, 1201 Elm Street, Suite 500, Dallas, Texas 75270-2102, (214) 665-8315, email: hebert.michael@epa.gov.

SUPPLEMENTARY INFORMATION: The proposed rule published on July 31, 2018 at 83 FR 36838 provides information about NPL Deletion Criteria, NPL Deletion Procedures, and the Basis for the South Valley site partial deletion.

Dated: June 26, 2019.
David Gray,
Acting Regional Administrator, Region 6.

[FR Doc. 2019-14880 Filed 7-12-19; 8:45 am]

BILLING CODE 6560-50-P